DEPARTMENT OF AGRICULTURE

Rural Utilities Service

Financing for Household Water Well Systems

AGENCY: Rural Utilities Service, USDA.

ACTION: Notice.

SUMMARY: The Water and Environmental Program within the Rural Utilities Service (RUS) seeks written comments on the need for a program which is specifically tailored to financing household wells, both new wells and well repairs.

DATES: Interested parties must submit written comments on or before December 31, 2001.

ADDRESSES: Submit written comments to Robin Meigel, Finance Specialist, Rural Utilities Service, United States Department of Agriculture, 1400 Independence Ave., SW., stop 1569, room 1246, Washington, DC 20250-1569. RUS requires, in hard copy, a signed original and 3 copies of all comments (7 CFR 1700.4). In addition, parties may submit an electronic version by e-mail in either WordPerfect or MSWord format to rmeigel@rus.usda.gov. Comments will be available for public inspection during normal business hours (7 CFR part 1).

FOR FURTHER INFORMATION CONTACT: For further information contact Robin Meigel, Finance Specialist, Rural Utilities Service, United States Department of Agriculture, 1400 Independence Ave., SW., stop 1569, room 1246, Washington, DC 20250-1569. Phone: 202-720-9452. Fax: 202-720-7491. E-mail: rmeigel@rus.usda.gov.

Background

The conference committee resolving differences in the legislation for appropriations for the U.S. Department of Agriculture (“USDA”) for the fiscal year ending September 30, 2001 issued Conference Report 106-948, ordered to be printed on October 6, 2000. In this report, the conferees directed USDA to fund the completion of a study by the National Ground Water Association that would identify and develop strategies to address economic, legal, technological, or public health issues that must be addressed prior to developing a publicly financed program to assist individual low and moderate income households to secure financing for the installation or refurbishing of individually owned household water well systems.

In accordance with this directive, an advisory and assistance contract has been entered into with the National Ground Water Association for the purposes stated. USDA also invites the views of all interested parties on this topic.

Dated: October 26, 2001.
Hilda Gay Legg,
Administrator, Rural Utilities Service.

[FR Doc. 01-27478 Filed 10-31-01; 8:45 am]

BILLING CODE 3410-15-P